DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Design for the Evaluation of the Maternal and Child Health Bureau, Bright Futures for Women's Health and Wellness Initiative and Preliminary Evaluation of Initial Products—New

The HRSA Office of Women's Health (OWH) is developing the Bright Futures for Women's Health and Wellness (BFWHW) Initiative to help expand the scope of women's preventive health activities, particularly related to nutrition and physical activity. A pilot test of the BFWHW health promotion tools and materials will be conducted in order to improve the effectiveness of the tools themselves, and to gather feedback on productive strategies for disseminating the tools for appropriate use to training providers and community organizations. Thus, the empirical findings from this pilot test will help shape the final BFWHW tool development. This data collection effort will ensure that the HRSA OWH develops targeted and effective tools for translating health prevention recommendations into nutrition and physical activity messages.

Toward this end, data will be collected from women patients, providers, and representatives of community organizations. Women patients ages 18 and over of various racial and ethnic backgrounds will complete questionnaires at three health centers in different geographic areas of the country. The health care providers at these same sites will also be asked to complete a brief questionnaire. Telephone interviews will be completed with representatives from community organizations located in the service areas of these health centers. The data collection period is estimated to last three weeks.

The estimated response burden is as follows:

Activity | Number of respondents | Responses per respondent | Total responses | Minutes per response | Total burden hours
Women Patient Questionnaire | 2,430 | 1 | 2,430 | 5 | 202.5
Provider Questionnaire | 18 | 1 | 18 | 5 | 1.5
Community Representative Telephone Interview | 15 | 1 | 15 | 35 | 8.75
Total | 2,463 |  | 2,463 |  | 213

Send comments to Susan G. Queen, Ph.D., HRSA Reports Clearance Officer, Room 14-45, Parklawn Building, 5600 Fishers Lane, Rockville, MD 20857. Written comments should be received within 60 days of this notice.

Dated: December 4, 2002.
Jane M. Harrison,
Director, Division of Policy Review and Coordination.

[FR Doc. 02-31191 Filed 12-10-02; 8:45 am]

BILLING CODE 4165-15-P